DEPARTMENT OF EDUCATION

34 CFR Chapter III

[Docket ID ED-2020-OSERS-0179]

Final Priority, Requirement, and Definitions—National Comprehensive Center on Improving Literacy for Students With Disabilities

AGENCY: Offices of Elementary and Secondary Education and Special Education and Rehabilitative Services, Department of Education.

ACTION: Final priority, requirement, and definitions.

SUMMARY: The Department of Education (Department) announces a priority, requirement, and definitions for the National Comprehensive Center on Improving Literacy for Students with Disabilities program (Comprehensive Centers program), Assistance Listing Number 84.283D. The Elementary and Secondary Education Act of 1965, as amended by the Every Student Succeeds Act (ESEA), requires the Secretary to establish a comprehensive center for students at risk of not attaining full literacy skills due to a disability. The Department may use the priority, requirement, and definitions for competitions in fiscal year (FY) 2021 and later years. We will use the priority, requirement, and definitions to award a cooperative agreement for a comprehensive center designed to improve literacy skills for students at risk of not attaining full literacy skills due to a disability.

DATES: Effective August 12, 2021.

FOR FURTHER INFORMATION CONTACT: Kristen Rhoads, U.S. Department of Education, 400 Maryland Avenue SW, Room 5175, Potomac Center Plaza, Washington, DC 20202-5076. Telephone: (202) 245-6715. Email: Kristen.Rhoads@ed.gov.

If you use a telecommunications device for the deaf (TDD) or a text telephone (TTY), call the Federal Relay Service (FRS), toll free, at 1-800-877-8339.

SUPPLEMENTARY INFORMATION:

Purpose of Program: The Comprehensive Centers program supports the establishment of not fewer than 20 comprehensive centers to provide capacity building services to State educational agencies (SEAs), regional educational agencies (REAs), local educational agencies (LEAs), and schools that improve educational outcomes for all students, close achievement gaps, and improve the quality of instruction. The purpose of the National Comprehensive Center on Improving Literacy for Students with Disabilities (Center) is to identify or develop evidence-based literacy assessment tools and professional development activities and identify evidence-based instruction, strategies, and accommodations for students at risk of not attaining full literacy skills due to a disability, including dyslexia impacting reading or writing, or developmental delay impacting reading, writing, language processing, comprehension, or executive functioning. The Center will also disseminate its products and information on evidence-based literacy to families, SEAs, LEAs, REAs, and schools.

Program Authority: Section 203 of the Educational Technical Assistance Act of 2002 (ETAA) (20 U.S.C. 9602) and section 2244 of the ESEA (20 U.S.C. 6674).

We published a notice of proposed priority, requirement, and definitions (NPP) for this program in the Federal Register on March 12, 2021 (86 FR 14048). The NPP contained background information and our reasons for proposing the particular priority, requirement, and definitions.

There are differences between the NPP and this notice of final priority, requirement, and definitions (NFP) as discussed in the Analysis of Comments and Changes section of this document. The substantive changes include not establishing a limit on reimbursement of indirect costs, adding a requirement related to features of screening assessments, and expanding who the Center involves when soliciting a diversity of perspectives in the development and implementation of services.

Public Comment: In response to our invitation to comment in the NPP, 27 parties submitted comments on the proposed priority, requirement, and definitions.

Generally, we do not address technical and other minor changes. In addition, we do not address comments that raised concerns not directly related to the proposed priority, requirement, and definitions.

Analysis of Comments and Changes: An analysis of the comments and changes in the priority, requirement, and definitions since publication of the NPP follows.

The Department received 27 comments, which addressed several specific topics, including limiting reimbursement of indirect costs, supporting an external evaluator, meeting the needs of multiple populations and settings, implementing project services, measuring Center outcomes, and managing the Center and adequacy of resources. Each topic is addressed below.

General Comments

Comment: All commenters expressed overall support for the proposed Center. One commenter stressed the importance of this Center for addressing the needs of students in early childhood programs through 12th grade. Another commenter noted that the Center could be important for ensuring quality education and creating equitable learning environments for students with disabilities in both charter and traditional public schools.

Discussion: The Department appreciates the comments and agrees with the commenters. The Center to be funded under this program will provide necessary and valuable technical assistance (TA) related to improving literacy outcomes for students at risk of not attaining full literacy skills due to a disability.

Changes: None.

Comment: One commenter suggested removing language related to competing in the global economy. The reviewer thought that the phrase adds undue stress for students with disabilities.

Discussion: The mission of the Department includes “promoting student achievement and preparation for global competitiveness.” This mission applies to all students, including students with disabilities and we think it is a reasonable expectation to have a broad goal of preparing all students for the global economy.

Changes: None.

Directed Question 1—Limiting Reimbursement of Indirect Costs

Comment: Commenters had differing opinions on whether the Department should limit the reimbursement of indirect costs. Two commenters were opposed to establishing a limit on reimbursement of indirect costs or a cap. They stated that a limit would reduce the number of qualified applicants, which would correspondingly reduce competition. Specifically, the two commenters noted that a limit would make it cost prohibitive for some organizations to compete for the grant, as they may not be able to absorb any unrecovered indirect costs. They also expressed concerns that the implementation of an indirect cost rate limit would not impact each applicant equally or result in equal savings to the government because categories of indirect costs vary across organizations. Finally, the commenters noted that indirect costs are established and audited through a lengthy and rigorous process administered by the cognizant agency and that the already negotiated rate should be appropriate for this program.

In contrast, three commenters supported establishing a cap on the indirect cost rate. One commenter supported the range of 20 to 35 percent proposed by the Department. Another commenter recommended a rate between 45 and 55 percent. The third commenter wanted to know the percentage of current grantees that had indirect cost rates higher than 35 percent and recommended increasing the cap if that percentage was high.

One commenter sought clarification on how the Department defined administrative costs if the Department set a limit to indirect cost reimbursement.

Discussion: The Department appreciates the stakeholder input it received in response to the directed question on the Department's considering potentially limiting indirect costs. We considered this potential requirement based on 2 CFR 200.414(c)(1), which allows a Federal awarding agency to use an indirect cost rate different from the negotiated rate when required by Federal statute or regulation or when approved by a Federal awarding agency head based on documented justification when the Federal awarding agency implements, and makes publicly available, the policies, procedures, and general decision making criteria that their programs will follow to seek and justify deviations from negotiated rates. Federal discretionary grantees have often historically been reimbursed for indirect costs at the rate that each grantee negotiates with its cognizant Federal agency. At this time, given the mixed and limited public comments and upon further reflection, the Department has decided not to impose a limit on the indirect costs for this competition and relies instead on the negotiated rate process with cognizant Federal agencies.

Changes: The final requirement does not include an indirect cost rate cap.

Directed Question 2—Supporting an External or Third-Party Evaluator

Comment: Commenters had differing opinions on the value of an external or third-party evaluator. Some commenters stated that an external or third-party evaluator would result in a high-quality impartial evaluation of the Center's success and improve the quality of the Center services and products.

Other commenters did not think that an external or third-party reviewer was necessary. One commenter noted that the role of the evaluator and expectations for evaluation are more important than whether the evaluator was internal or external to the Center. The commenter noted that the currently funded projects in the Comprehensive Centers Program Network successfully utilize a variety of evaluation approaches involving external and internal evaluators.

Two commenters noted that an external evaluator would unnecessarily divert funds from other Center activities. Both commenters noted that providing crucial TA to teachers and educators should be prioritized over evaluation activities. One commenter stated that an external evaluator would also divert funds from conducting important formative evaluation activities to determine the quality, relevance, and usefulness of the Center's work and that the size of the award, in general, was not sufficient for conducting a rigorous evaluation of Center activities. One commenter pointed out that in a post-pandemic climate, having more funds dedicated to services may be particularly important given that students would likely have more academic needs when they return to in-person instruction. This commenter recommended exploring low-cost evaluation efforts such as the Department conducting the evaluation.

Discussion: The Department agrees with the commenters who recommend requiring a third-party or external evaluator. A third-party or external evaluator will provide objectivity and credibility in evaluating the Center's success; provide input to Center staff to support mid-course corrections; bring additional technical expertise in evaluation methodology, statistics, or related topics; and allow Center staff to devote their attention to project implementation. Despite potentially diverting funds from important TA services or products, a third-party or external evaluator will be crucial for developing and implementing a strong evaluation plan and ensuring the effectiveness of those TA services and products that are provided and developed.

Changes: None.

Comment: One commenter asked whether the Center would be independent from or integrated with the current Comprehensive Centers Program Network. Specifically, the commenter wanted to know whether the Center would be part of the evaluation of the Comprehensive Centers program being conducted by the Department's Institute of Education Sciences (IES) and required to utilize the network's evaluation-related resources and data collection protocols and activities.

Discussion: The Department will encourage collaboration between the Center and the network; however, the Center will have its own set of requirements. It will not be part of the Comprehensive Centers program evaluation conducted by IES. Similarly, the network's evaluation-related resources and data collection protocols and activities will not be required, though the Department encourages applicants to consider adopting or adapting them as part of their evaluation work. The resources will be shared with the Center when funded, and the Department will work with the Center and its third-party evaluator in aligning its evaluation plan.

Changes: None.

Meeting the Needs of Multiple Populations and Settings

Comment: One commenter recommended adopting a definition of the term “families” that includes the variety of individuals who care for and interact with students with disabilities in their home lives.

Discussion: The Department agrees that a variety of individuals care for, interact with, and play important roles in the lives of children and students with disabilities in their home lives. We decline to define the term “families” because we understand that family structures may vary and encompass individuals with different relationships to each other.

Changes: None.

Comment: One commenter noted gender differences and potential referral bias in identification of reading disabilities with male students being identified more often than female students. The commenter recommended additional language be added to the notice to ensure that females receive adequate testing, attention, and resources.

Discussion: The Department thanks the commenter for the comment and recognizes that gender differences and referral bias in identification of disabilities have been documented in the research literature. While the Center will not be evaluating or identifying students as having a disability, the priority requires the Center to ensure equal access and treatment for members of groups that have traditionally been underrepresented based on race, color, national origin, sex, age, or disability. The grantee will ensure that products and services meet the needs of these recipients.

Changes: None.

Comment: Two commenters observed that the priority specifically named dyslexia and did not address other disability categories. One commenter asked if other disability categories would be included or excluded from Center activities. The second commenter recommended expanding the focus of the Center to address the literacy needs of students with Attention-Deficit/Hyperactivity Disorder and Autism Spectrum Disorder. The commenter noted that children with these disabilities also struggle with attaining full literacy skills and, therefore, need to receive evidence-based literacy practices.

Discussion: The Department agrees that students from a variety of disability groups do not attain full literacy skills due to their disabilities and require evidence-based instructional and assessment practices. Section 2244 of the ESEA (20 U.S.C. 6674) requires that the Center address the needs of students at risk of not attaining full literacy skills due to a disability, including dyslexia impacting reading or writing, or developmental delay impacting reading, writing, language processing, comprehension, or executive functioning. In meeting this requirement, an applicant could include students with Attention-Deficit/Hyperactivity Disorder, Autism Spectrum Disorder, or other disabilities.

Changes: None.

Comment: One commenter recommended defining the term “dyslexia” using the definition in the Formerly Incarcerated Reenter Society Transformed Safely Transitioning Every Person Act (First Step Act). The commenter noted that the definition in the First Step Act is the most up-to-date definition of dyslexia and the only definition of dyslexia in Federal statute.

Discussion: The Department thanks the commenter for the comment. Neither ESEA nor the Individuals with Disabilities Education Act (IDEA) includes a definition of dyslexia. Dyslexia is identified as an example of a condition that could enable a student to be eligible under IDEA's specific learning disability category. In addition, States have developed their own definitions of dyslexia.

Changes: None.

Comment: One commenter recommended adopting the definition of “dyslexia screening program” from the First Step Act noting that the Center should provide TA and disseminate information on screeners that are evidence-based, psychometrically valid, affordable to schools, efficient to scale, and readily available to use as soon as possible.

Discussion: The Department agrees that screening assessments for dyslexia and other literacy-related disabilities should have the features that the reviewer described. Instead of adopting the definition from the First Step Act, the Department has added a requirement in the Quality of Project Services section of the priority. The requirement states that applicants should address the current research on screening assessments for dyslexia and other literacy-related disabilities that are evidence-based, psychometrically valid, free or low-cost, efficient to scale, and readily available for use.

Changes: The Department has added a requirement related to the features of screening assessments in paragraph (b)(4)(ii) of the Quality of Project Services section.

Comment: One commenter recommended that the Center have a greater focus on meeting the needs of teachers and students who are participating in remote learning environments due to the current novel coronavirus 2019 (COVID-19) pandemic.

Discussion: The Department thanks the commenter for the comment and recognizes the unique challenges that students, teachers, and schools are experiencing due to COVID-19 as well as the critical role that remote learning plays when regular classroom instruction is disrupted. The priority is for improving the implementation of evidence-based literacy practices in teacher classroom and remote learning environments. The grantee will ensure that products and services meet the needs of teachers and students in both types of environments.

Changes: None.

Comment: One commenter was concerned that the Center may not meet the needs of charter schools noting that charter schools may differ from traditional public schools and districts. The commenter recommended requiring descriptions of plans to reach charter schools and evaluating proposals for the quality of their charter school plan.

Discussion: The Department thanks the commenter for the comment and agrees that appropriately serving students with disabilities is often an issue for charter schools. The Center should address the needs of all schools serving students with disabilities. As such, applicants should propose to develop TA products and services that address the needs of students in charter schools. Applicants could include a plan in Appendix A of their application. However, we do not believe it is necessary to require a plan to reach charter schools or evaluate proposals based on the quality of this plan.

Changes: None.

Implementing Project Services

Comment: One commenter noted that institutions of higher education pre-service training programs are not specified as recipients of intensive, sustained TA. The commenter pointed out that pre-service teachers need training in the science of reading and that State governments are examining college preparation programs in this area. The commenter noted that this Center could be a major catalyst in supporting this work.

Discussion: Section 2244(b)(5) of ESEA requires the Center to disseminate its products to regionally diverse SEAs, REAs, LEAs, and schools, including, as appropriate, through partnerships with other comprehensive centers established under section 203 of the Educational Technical Assistance Act of 2002 (20 U.S.C. 9602), and regional educational laboratories established under section 174 of the Education Sciences Reform Act of 2002 (20 U.S.C. 9564). The products developed by the Center could be disseminated to and used in pre-service training programs.

Changes: None.

Comment: Three commenters noted the importance of collaboration and outreach to other federally funded Centers as well as professional organizations and associations with literacy expertise, who represent disability groups, or who represent educators and service providers for students with disabilities. One commenter recognized that in special education, there is often a lack of collaboration between special education and other educators when sharing expertise and resources. Another commenter noted that at least a dozen currently funded Regional Comprehensive Centers include literacy as part of their intensive, high-leverage capacity building TA and that well-planned collaboration between those centers and this Center would benefit TA providers and TA recipients. One commenter encouraged early outreach to related professional organizations.

Discussion: The Department agrees that coordination between this Center and other federally funded TA projects focused on literacy as well as early outreach to related professional organizations would benefit the Center and its TA recipients. The Department will work with the Center to facilitate coordination and collaboration with similar Department-funded projects and professional organizations focused on improving literacy for students with disabilities.

Changes: None.

Comment: One commenter recommended embedding implicit bias training in Center activities, noting that implicit bias about individuals with disabilities is pervasive in society.

Discussion: The Department thanks the commenter and agrees that individuals with disabilities face implicit bias in school and life. As part of addressing the needs of students at risk for not attaining full literacy skills due to a disability, including dyslexia impacting reading or writing, or developmental delay impacting reading, writing, language processing, comprehension, or executive functioning, an applicant could also include implicit bias training as part of its TA.

Changes: None.

Comment: One commenter recommended requiring that the Center conduct a review of States that have passed laws related to screening and instruction for students with dyslexia and tailoring TA to aid effective implementation of these laws.

Discussion: We do not believe that it is necessary to require this activity. The priority requires the Center to address current and emerging training and information needs of SEAs, REAs, LEAs, TA centers, schools, and practitioners related to selecting and implementing classroom and remote learning environment evidence-based practices (EBPs) that will improve literacy outcomes for students with disabilities, including students with dyslexia impacting reading or writing, or developmental delay impacting reading, writing, language processing, comprehension, or executive functioning. It is expected that applicants will have knowledge of State laws related to screening and instruction for dyslexia. In addition, the grantee will provide targeted, specialized TA to a variety of recipients, including SEAs, as part of its project services. This targeted, specialized TA could include conducting a review of State laws and tailoring TA for SEAs based on their needs.

Changes: None.

Measuring Center Outcomes

Comment: One commenter recommended requiring parent or family perspectives or feedback as a Center outcome measure.

Discussion: The Center is required to provide TA to a variety of recipients including parents or families, SEAs, REAs, LEAs, schools, Head Start, and other early childhood programs and ensure that the products and services meet the intended recipients. In meeting these requirements, an applicant could include family or parent perspectives, including perspectives from organizations such as the OSEP-funded Parent Training and Information Centers, or feedback as a Center outcome measure. However, we do not believe it is necessary that perspectives or feedback from any of the recipients be required as a Center outcome measure.

Changes: None.

Comment: One commenter suggested requiring improvement in noncognitive skills, such as effort, curiosity, inquisitiveness, as a Center outcome.

Discussion: The Department recognizes the importance of noncognitive skills for student achievement. While the Center is required to address literacy outcomes, an applicant could also include noncognitive skills as part of its project services and evaluation. We do not believe that it is necessary to require noncognitive skills as a Center outcome.

Changes: None.

Managing the Center and Adequacy of Resources

Comment: Two commenters addressed the requirement that the project director should be, at minimum, 0.5 full-time equivalency (FTE) throughout the project. One commenter asked whether it would be permissible to split the 0.5 FTE for the project director and distribute the FTE at the applicant's discretion to other Center personnel or co-project directors. The second commenter noted that the complexity of the scope of work requires a substantial involvement of leadership and expertise in order to result in a successful Center. This commenter recommended requiring a project director at a minimum of 0.75 FTE or two co-project directors at a minimum of 0.5 FTE each or a project director at a minimum of 0.5 FTE and a deputy director at 0.75-1.0 FTE.

Discussion: The Department believes that it is necessary to have a single project director responsible for understanding and coordinating Center's activities to ensure that they are conducted effectively and efficiently. Accordingly, the Department agrees that the project director should dedicate significant time to this Center. Based on the Department's experience with this Center, having one project director at a minimum of 0.5 FTE is necessary to oversee the Center's complex and overlapping activities and produce high-quality, relevant products and services that have strong scientific integrity. The Department also agrees that any co-project directors or deputy directors should also have a significant time investment in the project; however, the applicant can distribute the FTE of other Center personnel at its discretion.

Changes: None.

Comment: One commenter encouraged the Center to incorporate input from a variety of educators, including general education teachers, special education teachers, librarians, paraprofessionals, and specialized instructional support personnel, who serve a broad diversity of students in the Center activities. The commenter noted that educators offer valuable perspectives on specific types of literacy instruction to best address the differing populations of students they serve.

Discussion: The Department thanks the commenter and agrees that educators bring critical perspectives related to all Center services and activities. The proposed priority required applicants to address how the project will benefit from a diversity of perspectives, including those of families, general and special education teachers, TA providers, researchers, institutions of higher education, and policy makers, among others, in its development and operation as part of the Quality of the Management Plan requirements. We agree that expanding those requirements to include paraprofessionals, principals, other school leaders, and specialized instructional support personnel would improve Center services and activities.

Changes: Paraprofessionals, principals, other school leaders, and specialized instructional support personnel were added to paragraph (e)(4) of the final Priority as groups to provide diverse perspectives that will benefit the development and operation of the Center.

Comment: One commenter asked if the notice inviting applications would require cost sharing and, if not, would the Department provide more detail about its expectations for or examples of how applicants could use non-project resources in paragraph (b)(5)(iv)(D)(6)(iii) of the final Priority to achieve the intended project outcomes.

Discussion: Cost sharing is not required in this program. Examples of ways to use non-project resources include the following: Using in-kind contributions of FTE from project staff, expert consultants, or communications specialists; utilizing, adapting, and disseminating previously developed high-quality resources, web-based products, services, or questionnaires; and establishing partnerships with professional organizations to assist with disseminating information to a broader audience.

Changes: None.

Final Priority:

National Comprehensive Center on Improving Literacy for Students with Disabilities.

Background:

Section 2244 of the ESEA requires the Secretary to establish a comprehensive center on students at risk of not attaining full literacy skills due to a disability. Comprehensive centers are typically administered by the Office of Elementary and Secondary Education (OESE). OESE is funding this Center; however, because of the Center's subject matter, it will be administered jointly by OESE and OSEP in the Office of Special Education and Rehabilitative Services (OSERS).

The project is designed to improve implementation of evidence-based literacy practices in both teacher classroom and remote learning environments. With respect to remote learning, the priority is intended to ensure that teachers have the training and support they need to implement evidence-based literacy practices during remote instruction for students with disabilities, including students with dyslexia impacting reading or writing, or developmental delay impacting reading, writing, language processing, comprehension, or executive functioning. Remote learning plays a critical role in regular instruction and can serve as a crucial link allowing high-quality teaching and learning to continue when regular instruction is disrupted.

Priority:

The purpose of this priority is to fund a cooperative agreement to establish and operate a National Comprehensive Center on Improving Literacy for Students with Disabilities (Center) for children in early childhood education programs through high school. The Center must—

(a) Identify or develop free or low-cost evidence-based assessment tools for identifying students at risk of not attaining full literacy skills due to a disability, including dyslexia impacting reading or writing, or developmental delay impacting reading, writing, language processing, comprehension, or executive functioning;

(b) Identify evidence-based literacy instruction, strategies, and accommodations, including assistive technology, designed to meet the specific needs of such students;

(c) Provide families of such students with information to assist such students;

(d) Identify or develop evidence-based professional development for teachers, paraprofessionals, principals, other school leaders, and specialized instructional support personnel to—

(1) Understand early indicators of students at risk of not attaining full literacy skills due to a disability, including dyslexia impacting reading or writing, or developmental delay impacting reading, writing, language processing, comprehension, or executive functioning;

(2) Use evidence-based screening assessments for early identification of such students beginning not later than kindergarten; ¹ and

¹ Applicants are encouraged to identify or develop professional development for using evidence-based screening assessments for early identification of children in early childhood or prekindergarten programs as well.

(3) Implement evidence-based instruction designed to meet the specific needs of such students; and

(e) Disseminate the products of the comprehensive center to regionally diverse SEAs, REAs, LEAs, and schools, including, as appropriate, through partnerships with other comprehensive centers established under section 203 of the Educational Technical Assistance Act of 2002 (20 U.S.C. 9602), and regional educational laboratories established under section 174 of the Education Sciences Reform Act of 2002 (20 U.S.C. 9564).

In addition to these programmatic requirements, to be considered for funding under this priority, applicants must meet the application and administrative requirements in this priority, which are:

(a) Demonstrate, in the narrative section of the application under “Significance,” how the proposed project will—

(1) Address current and emerging training and information needs of SEAs, REAs, LEAs, TA centers, schools, and practitioners to select and implement teacher classroom and remote learning environment evidence-based practices (EBPs) that will improve literacy outcomes for students with disabilities, including students with dyslexia impacting reading or writing, or developmental delay impacting reading, writing, language processing, comprehension, or executive functioning. To meet this requirement, the applicant must—

(i) Demonstrate knowledge of current and emerging EBPs, which can be used in reading and literacy-related teacher classroom and remote learning environment instruction, screening, assessment, and identification or diagnosis of students at risk for not attaining full literacy skills due to a disability, including dyslexia impacting reading or writing, or developmental delay impacting reading, writing, language processing, comprehension, or executive functioning. This includes demonstrating knowledge of current and emerging reading and literacy-related EBPs for students who are English learners; students from a variety of settings (e.g., rural, suburban, urban); students from low-income families; and other educationally disadvantaged students; or

(ii) Demonstrate knowledge of, previous experience with, and results of using creative approaches and implementing in-person and virtual TA strategies to provide capacity-building services and disseminate teacher classroom and remote learning environment EBPs to a variety of entities, including parents, SEAs, REAs, LEAs, schools, Head Start, and other early childhood programs;

(2) Demonstrate a record of improving outcomes in literacy achievement for students at risk for not attaining full literacy skills due to a disability, including dyslexia impacting reading or writing, or developmental delay impacting reading, writing, language processing, comprehension, or executive functioning, in order to better prepare them to compete in a global economy; and

(3) Demonstrate a record of improving the adoption, implementation, and sustainment of teacher classroom and remote learning environment EBPs in literacy instruction for students at risk for not attaining full literacy skills due to a disability, including dyslexia impacting reading or writing, or developmental delay impacting reading, writing, language processing, comprehension, or executive functioning.

(b) Demonstrate, in the narrative section of the application under “Quality of project services,” how the proposed project will—

(1) Ensure equal access and treatment for members of groups that have traditionally been underrepresented based on race, color, national origin, sex, age, or disability. To meet this requirement, the applicant must describe how it will—

(i) Identify the needs of the intended recipients for TA and information; and

(ii) Ensure that products and services meet the needs of the intended recipients of the grant;

(2) Achieve its goals, objectives, and intended short-term, intermediate, and long-term outcomes. To meet this requirement, the applicant must provide—

(i) A five-year plan for the Center to identify current and emerging training and information needs and to address the priority;

(ii) Measurable intended project outcomes; and

(iii) In Appendix A, the logic model (as defined in 34 CFR 77.1) by which the proposed project will achieve its intended outcomes that depicts, at a minimum, the goals, activities, outputs, and intended short-term, intermediate, and long-term outcomes of the proposed project;

(3) Use a conceptual framework (and provide a copy in Appendix A) to develop project plans and activities, and describe any underlying concepts, assumptions, expectations, or theories, as well as the presumed relationships or linkages among these variables, and any empirical support for this framework;

Note: The following websites provide more information on logic models and conceptual frameworks: www.osepideasthatwork.org/logicModel, www.osepideasthatwork.org/resources-grantees/program-areas/ta-ta/tad-project-logic-model-and-conceptual-framework, and www.federalregister.gov/d/2019-06583.

(4) Be based on current research and make use of EBPs in the development and delivery of its products and services. To meet this requirement, the applicant must describe—

(i) The current research on teacher classroom and remote learning environment EBPs for literacy instruction for students at risk for not attaining full literacy skills due to a disability, including dyslexia impacting reading or writing, or developmental delay impacting reading, writing, language processing, comprehension, or executive functioning;

(ii) The current research on teacher classroom and remote learning environment EBPs for assessing students at risk for not attaining full literacy skills due to a disability, including dyslexia impacting reading or writing, or developmental delay impacting reading, writing, language processing, comprehension, or executive functioning. This should include the current research on screening assessments for dyslexia and other literacy-related disabilities that are evidence-based, psychometrically valid, free or low-cost, efficient to scale, and readily available for use; and

(iii) The current research about adult learning principles in in-person and virtual settings and implementation science that will inform the proposed TA; and

(5) Develop products or refine or update publicly available existing products and provide in-person and virtual services that are of high quality and sufficient intensity and duration to achieve the intended measurable outcomes of the proposed project. To address this requirement, the applicant must describe—

(i) How it proposes to identify or develop the knowledge base in teacher classroom and remote learning environment literacy instruction for students at risk of not attaining full literacy skills due to a disability;

(ii) Its proposed approach to universal, general TA, which must identify the intended recipients, including the type and number of recipients, that will receive the products and services under this approach;

(iii) Its proposed approach to targeted, specialized TA, which must identify—

(A) The intended recipients, including the type and number of recipients, that will receive the products and services under this approach, a description of new or existing publicly available products that may be used and services that the Center proposes to make available, and the expected impact of those products and services under this approach; and

(B) Its proposed approach to measure the readiness of potential TA recipients to work with the project, assessing, at a minimum, their current infrastructure, available resources, and ability to build capacity at the local level; and

(iv) Its proposed approach to intensive, sustained TA, which must identify—

(A) The intended recipients, including the type and number of recipients, that will receive the products and services, a description of new or existing publicly available products that may be used and services that the Center proposes to make available, and the expected impact of those products and services under this approach;

(B) Its proposed approach to measure the readiness of the target audiences to work with the project, including their commitment to the initiative, alignment of the initiative to their needs, current infrastructure, available resources, and ability to build capacity at the SEA, REA, LEA, school, and early childhood education program levels;

(C) Its proposed plan for assisting SEAs, REAs, and LEAs to build or enhance in-person and virtual training systems that include capacity-building services and professional development based on adult learning principles and coaching; and

(D) Its proposed plan for working with appropriate levels of the education system (e.g., SEAs, regional TA providers, districts, schools, early childhood education programs, families) to ensure that there is communication between each level and that there are systems in place to support the use of teacher classroom and remote learning environment EBPs for literacy instruction;

(6) Partner with the National Comprehensive Center and at least one of the other federally funded comprehensive centers, regional educational laboratories, equity assistance centers, OSEP- and other related federally funded TA Centers, parent training and information and community parent resource centers funded by the Department and OSEP (e.g., Center for Parent Information and Resources and Parent Technical Assistance Centers), and other related organizations to refine or develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes; and

(7) Develop a dissemination plan that describes how the applicant will systematically distribute information, products, and services to varied intended audiences, using a variety of in-person and virtual dissemination strategies, to promote awareness and use of the Center's products and services.

(c) In the narrative section of the application under “Quality of the project evaluation,” include an evaluation plan for the project developed in consultation with and implemented by a third-party evaluator. The evaluation plan must—

(1) Articulate formative and summative evaluation questions, including important process and outcome evaluation questions, that are linked directly to the project's proposed logic model required in paragraph (b)(2)(iii) of this notice;

(2) Describe how progress in and fidelity of implementation, as well as project short-term, intermediate, and long-term outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the annual performance report (APR); and

(5) Dedicate sufficient funds in each budget year to cover the costs of developing or refining the evaluation plan in collaboration with a third-party evaluator and the costs associated with the implementation of the evaluation plan by the third-party evaluator.

(d) Demonstrate, in the narrative section of the application under “Adequacy of resources and quality of project personnel,” how—

(1) The proposed project will ensure equal access for employment for all, including those who are members of groups that have traditionally been underrepresented based on race, color, national origin, sex, age, religion, or disability;

(2) The proposed key project personnel, consultants, and subcontractors have the qualifications, subject-matter expertise, and technical experience to carry out the proposed activities, achieve the project's intended outcomes, and develop ongoing partnerships with leading experts and organizations nationwide to inform project activities;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes. The identified project director should be, at minimum, 0.5 full-time equivalency throughout the project period;

(3) The proposed management plan will ensure that the products and services provided are of high quality, relevant, and useful to recipients; and

(4) The proposed project will benefit from a diversity of perspectives, including those of families, general and special education teachers, paraprofessionals, principals, other school leaders, specialized instructional support personnel, TA providers, researchers, institutions of higher education, and policy makers, among others, in its development and operation.

(f) Address the following additional application requirements. The applicant must—

(1) Include, in Appendix A, personnel-loading charts and timelines, as applicable, to illustrate the management plan described in the narrative;

(2) Include, in the budget, attendance at the following:

(i) A one and one-half day kick-off meeting in Washington, DC, or virtually, after receipt of the award, and an annual planning meeting in Washington, DC, or virtually, with the OSEP project officer, OESE staff, and other relevant staff during each subsequent year of the project period.

Note: Within 30 days of receipt of the award, a post-award teleconference must be held between the OSEP project officer and the grantee's project director or other authorized representative;

(ii) A two and one-half day project directors' conference in Washington, DC, or a virtual conference, during each year of the project period;

(iii) Two annual two-day trips to attend Department briefings, Department-sponsored conferences, and other meetings, as requested by OSEP; and

(iv) At least monthly, communicate and collaborate with other Department-funded centers to achieve project objectives;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Include a plan for maintaining a high-quality website, with an easy-to-navigate design, that meets government or industry-recognized standards for accessibility;

(5) Include a plan for ensuring that annual project progress toward meeting project goals is posted on the project website;

(6) Include, in Appendix A, a letter of agreement from each partnering organization or consultant. The letter of agreement should clearly specify the role of the partnering organization or consultant and the time needed to fulfill the commitment to the project; and

(7) Include, in Appendix A, an assurance to assist OSEP and OESE with the transfer of pertinent resources and products and to maintain the continuity of services to target audiences during the transition to this new award period and at the end of this award period, as appropriate.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Definitions:

The Department establishes the following definitions for the purposes of the National Comprehensive Center on Improving Literacy for Students with Disabilities Program. We may apply one or more of these definitions in any year in which this program is in effect. We include the source of each definition in parentheses.

Capacity-building services means assistance that strengthens an individual's or organization's ability to engage in continuous improvement and achieve expected outcomes. (Final Priorities, Requirements, Definitions, and Performance Measures; Comprehensive Centers Program (84 FR 13122), April 4, 2019.)

Fidelity means the delivery of instruction in the way in which it was designed to be delivered. (Final Priorities and Definitions; State Personnel Development Grants (77 FR 45944), August 2, 2012.)

Intensive, sustained TA means TA services often provided on-site and requiring a stable, ongoing relationship between the TA center staff and the TA recipient. This category of TA should result in changes to policy, program, practice, or operations that support increased recipient capacity or improved outcomes at one or more systems levels.

Regional educational agency, for the purposes of this program, means “Tribal Educational Agency” as defined in ESEA section 6132(b)(3), as well as other educational agencies that serve regional areas. (Final Priorities, Requirements, Definitions, and Performance Measures; Comprehensive Centers Program (84 FR 13122), April 4, 2019).

TA services are defined as negotiated series of activities designed to reach a valued outcome.

Targeted, specialized TA means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

Third-party evaluator is an independent and impartial program evaluator who is contracted by the grantee to conduct an objective evaluation of the project. This evaluator must not have participated in the development or implementation of any project activities, except for the evaluation activities, nor have any financial interest in the outcome of the evaluation.

Universal, general TA means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

Note: This notice does not solicit applications. In any year in which we choose to use this priority and these requirements and definitions, we invite applications through a notice in the Federal Register.

Executive Orders 12866 and 13563

Regulatory Impact Analysis

Under Executive Order 12866, the Office of Management and Budget (OMB) determines whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866. Pursuant to the Congressional Review Act (5 U.S.C. 801 et seq.), the Office of Information and Regulatory Affairs designated this rule as not a “major rule,” as defined by 5 U.S.C. 804(2).

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the final priority, requirement, and definitions only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Discussion of Potential Costs and Benefits

The Department believes that the costs associated with this final priority, requirement, and definitions will be minimal, while the benefits are significant. The Department believes that this regulatory action does not impose significant costs on eligible entities. Participation in this program is voluntary, and the costs imposed on applicants by this regulatory action will be limited to paperwork burden related to preparing an application. The benefits of implementing the program—improving literacy skills for students at risk of not attaining full literacy skills due to a disability—will outweigh the costs incurred by applicants, and the costs of carrying out activities associated with the application will be paid for with program funds. For these reasons, we have determined that the costs of implementation will not be excessively burdensome for eligible applicants, including small entities.

Regulatory Alternatives Considered

The Department believes that the priority, and requirement, and definitions are needed to administer the program effectively.

Paperwork Reduction Act of 1995

The final priority, requirement, and definitions contain information collection requirements that are approved by OMB under control number 1894-0006; the final priority, requirement, and definitions do not affect the currently approved data collection.

Regulatory Flexibility Act Certification: The Secretary certifies that this final regulatory action would not have a significant economic impact on a substantial number of small entities. The U.S. Small Business Administration (SBA) Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this final regulatory action will affect are SEAs; LEAs, including charter schools that operate as LEAs under State law; institutions of higher education (IHEs); other public agencies; private nonprofit organizations; freely associated States and outlying areas; Indian Tribes or Tribal organizations; and for-profit organizations. We believe that the costs imposed on an applicant by the final priority, requirement, and definitions will be limited to paperwork burden related to preparing an application and that the benefits of this final priority, requirement, and definitions will outweigh any costs incurred by the applicant.

Participation in the National Comprehensive Center on Improving Literacy for Students with Disabilities program is voluntary. For this reason, the final priority, requirement, and definitions will impose no burden on small entities unless they applied for funding under the program. We expect that in determining whether to apply for National Comprehensive Center on Improving Literacy for Students with Disabilities program funds, an eligible entity will evaluate the requirements of preparing an application and any associated costs and weigh them against the benefits likely to be achieved by receiving a National Comprehensive Center on Improving Literacy for Students with Disabilities program grant. An eligible entity will most likely apply only if it determines that the likely benefits exceed the costs of preparing an application.

We believe that the final priority, requirement, and definition will not impose any additional burden on a small entity applying for a grant than the entity would face in the absence of the final action. That is, the length of the applications those entities would submit in the absence of the final regulatory action and the time needed to prepare an application will likely be the same.

This final regulatory action will not have a significant economic impact on a small entity once it receives a grant because it would be able to meet the costs of compliance using the funds provided under this program.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

David Cantrell,
Deputy Director, Office of Special Education Programs. Delegated the authority to perform the functions and duties of the Assistant Secretary for the Office of Special Education and Rehabilitative Services.
Ian Rosenblum,
Deputy Assistant Secretary for Policy and Programs. Delegated the authority to perform the functions and duties of the Assistant Secretary, Office of Elementary and Secondary Education.

[FR Doc. 2021-14865 Filed 7-9-21; 11:15 am]

BILLING CODE 4000-01-P